DEPARTMENT OF DEFENSE

Department of the Air Force

Privacy Act of 1974; System of Records

AGENCY: Department of the Air Force, DoD

ACTION: Notice to amend systems of records.

SUMMARY: The Department of the Air Force is amending a system of records notice in its existing inventory of record systems subject to the Privacy Act of 1974, (5 U.S.C. 552a), as amended.

DATES: The proposed action will be effective without further notice on December 12, 2005 unless comments are received which result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: November 4, 2005
L.M. Bynum,
OSD Federal Register Liaison Officer, Department of Defense.

F033 SAFLL A

System name:

Congressional/Executive Inquiries (April 14, 1999, 64 FR 18406).

Changes:

* * * * *

System location:

Delete “Office of the Secretary of the Air Force” and replace with: “Secretary of the Air Force, Office of Legislative Liaison (SAF/LL),”

* * * * *

Authority for maintenance of the system:

Delete entry and replace with: “10 U.S.C. 8013, Secretary of the Air Force; 10 U.S.C. 8032, The Air Staff: general duties; and Air Force Regulation 11-7, Air Force Relations with Congress.”

* * * * *

Storage:

Delete entry and replace with: “Maintained in file folders and electronic media.”

* * * * *

Safeguards:

Delete last sentence and replace with: “Electronic media records are stored in a secure facility and protected by computer system software; paper records are stored in a secure facility in security file containers/cabinets.”

Retention and disposal:

Delete entry and replace with: “Records will be retained for two years and maintained, retained, and disposed of in accordance with the Air Force Records Disposition Schedule, Table 36-29, Rule 04.01.”

System manager(s) and address:

Delete entry and replace with: “Secretary of the Air Force, Legislative Liaison, Congressional Inquiries Office, 1160 Air Force Pentagon, Washington, DC 20330-1160.”

Notification procedure:

Delete “Director of Legislative Liaison, Office of the Secretary of the Air Force, Headquarters, U.S. Air Force” and replace with: “Secretary of the Air Force, Legislative Liaison, 1160 Air Force Pentagon”

Add the following paragraph: “Requests from individuals must contain name, address, or any other reasonable identifying particulars about the subject in question.”

Record access procedures:

Delete “Director of Legislative Liaison, Office of the Secretary of the Air Force, Headquarter, U.S. Air Force” and replace with: “Secretary of the Air Force, Legislative Liaison, 1160 Air Force Pentagon.”

Add the following paragraph: “Requests from individuals must contain name, address, or any other reasonable identifying particulars about the subject in question.”

* * * * *

F033 SAFLL A

System name:

Congressional/Executive Inquiries.

System location:

Secretary of the Air Force, Office of Legislative Liaison (SAF/LL), Washington, DC 20330-1160.

Categories of individuals covered by the system:

Air Force active duty and retired military personnel, present and former civilian employee, Air Force Reserve and Air National Guard personnel, Air Force Academy nominees/applicants and cadets, Senior and Junior Air Force Reserve Officers, dependents of military personnel, and anyone who has written to the President or a Member of Congress regarding an Air Force issue.

Categories of records in the system:

Copies of applicable Congressional/Executive correspondence and Air Force replies.

Authority for maintenance of the system:

10 U.S.C. 8013, Secretary of the Air Force; 10 U.S.C. 8032, The Air Staff: general duties; and Air Force Regulation 11-7, Air Force Relations with Congress.

Purpose(s):

Information is used as a reference base in the case of similar inquiries from other Members of Congress, in behalf of the same Air Force issue and/or follow-up by the same Member. Information may also be used by appropriate Air Force offices as a basis for corrective action and for statistical purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system.

Storage:

Maintained in file folders and electronic media.

Retrievability:

Retrieved by name.

Safeguards:

Records are accessed by custodian of the record system and by person(s) responsible for servicing the record system in performance of their official duties who are properly screened and cleared for need-to-know. Electronic media records are stored in a secure facility and protected by computer system software; paper records are stored in a secure facility in security file containers/cabinets.

Retention and Disposal:

Records will be retained for two years and maintained, retained, and disposed of in accordance with the Air Force Records Disposition Schedule, Table 36-29, Rule 04.01.

System Manager(s) and Address:

Secretary of the Air Force, Legislative Liaison, Congressional inquiries Office, 1160 Air Force Pentagon, Washington, DC 20330-1160.

Notification Procedure:

Individuals seeking to determine whether information about themselves is contained in this system should address written inquiries to or visit the Secretary of the Air Force, Legislative Liaison, 1160 Air Force Pentagon, Washington, DC 20330-1160.

Requests from individuals must contain name, address, or any other reasonable identifying particulars about the subject in question.

Record Access Procedures:

Individuals seeking access to information about themselves contained in this system should address written inquiries to or visit the Secretary of the Air Force, Legislative Liaison, 1150 Air Force Pentagon, Washington, DC 20330-1160.

Requests from individuals must contain name, address, or any other reasonable identifying particulars about the subject in question.

Contesting Record Procedures:

The Air Force rules for accessing records, and for contesting contents and appealing initial agency determinations are published in Air Force Instruction 37-132; 32 CFR part 806b; or may be obtained from the system manager.

Record Source Categories:

Congressional and Executive inquiries and information from Air Force offices and organizations.

Exemptions Claimed for the System:

None.

[FR Doc. 05-22411 Filed 11-9-05; 8:45 am]

BILLING CODE 5001-06-M